DEPARTMENT OF JUSTICE

Office of Justice Programs

[OMB Number 1121-0283]

Agency Information Collection Activities: Reinstatement, With Change of a Previously Approved Collection for Which Approval Has Expired, Comments Requested

ACTION: 30-day notice of information Collection under review: State Court Organization 2009.

The Department of Justice, Office of Justice Programs, Bureau of Justice Statistics, will be submitting the following information collection request to the Office of Management and Budget (OMB) for review and approval in accordance with the Paperwork Reduction Act of 1995. The proposed information collection is published to obtain comments from the public and affected agencies. The proposed information collection was previously published in the Federal Register Volume 75, Number 186, pages 59293-59294, on September 27, 2010, allowing for a 60-day public comment period.

The purpose of this notice is to allow an additional 30 days for public comment until December 27, 2010. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806.

Written comments and suggestions from the pubic and affected agencies concerning the proposed collection of information are encouraged. Your comments should address one or more of the following four points:

—Evaluate whether the proposed collection of information is necessary for the proper performance of the function of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information

(1) Type of information collection: Reinstatement, with change, of a previously approved collection for which OMB approval has expired, State Court Organization, 2009.

(2) The title of the form/collection: State Court Organization, 2009 or SCO 2009.

(3) The agency form number, if any, and the applicable component of the Department sponsoring the collection: The form label is SCO-2009, Bureau of Justice Statistics, Office of Justice Programs, U.S. Department of Justice.

(4) Affected Public Who Will be Asked or Required to Respond, as well as a Brief Abstract: State trial and appellate courts and state administrative court offices. Abstract: State Court Organization 2009 will focus on the organizational structure of state courts throughout the country. Emphasis will be placed on collecting information pertaining to the number of trial and appellate court judges, the selection of judicial officers, the governance of the judicial branch, the funding and budgets of state courts, appellate and trial court staffing, the use of juries, and sentencing procedures. Moreover, information will be collected on the utilization of information technology systems in state courts. All data collected will be accurate as of December 2009.

(5) An Estimate of the Total Number of Respondents and the Amount of Time Estimated for an Average Respondent to Respond: The State Court Organization (SCO) data collection forms will be sent to each of the nation's 56 court systems (those for the 50 states, the District of Columbia, Puerto Rico, and the U.S territories including American Samoa, Guam, Northern Mariana Islands, and the Virgin Islands). The data collection instruments will be in the form of spreadsheets that will basically mirror the electronic and PDF tables produced for the SCO report. There are a total of 62 spreadsheets that the respondents will be asked to complete for their individual states or courts. Consistent with past data collections, recurring tables will be populated with data previously reported in prior SCO publications. Previous SCO surveys, along with pretests of the current data collection spreadsheet, have shown that it should take an estimated half an hour for the 56 court systems to review and revise each pre-populated spreadsheet. Since 38 of the 62 spreadsheets hail from prior SCO surveys, the total burden hours to review, revise, and update the pre-populated SCO spreadsheets for each of the court systems should be about 19 hours (38 spreadsheets * half an hour per spreadsheet = 19 hours per state or U.S. territory). For new spreadsheets, no historical data will be available, and the data collection forms will be blank. Pretests have shown that it should take an hour to provide the requested information for each data collection spreadsheet. Since 24 of the 62 spreadsheets involve the collection of new SCO data, the total burden hours to collect the requested data for each court systems should be about 24 hours (24 spreadsheets * one hour per spreadsheet = 24 hours per state or U.S. territory). Therefore, each of the 56 respondent state court systems will require 43 hours to complete the SCO data collection request.

(6) An Estimate of the Total Public Burden (in hours) Associated With the collection: The total burden hours to complete revision and review portion of the SCO data collection will be 1,064 hours (19 hours to review and revise 38 spreadsheets per court system * 56 respondents = 1,064 hours). The total burden hours involved in collection of the new SCO data will be 1,344 hours (24 hours to provide data for 24 spreadsheets per court system * 56 respondents = 1,344 hours). Therefore, it is estimated that the 56 court systems should require 2,408 hours (1,064 hours to revise and update 38 prior SCO spreadsheets + 1,344 hours to provide data for 24 new SCO spreadsheets) to complete data collection for the SCO project.

If additional information is required contact: Mrs. Lynn Murray, Department Clearance Officer, United States Department of Justice, Justice Management Division, Policy and Planning Staff, Two Constitution Square, 145 N Street, NE., Suite 2E-502, Washington, DC 20530.

Dated: November 22, 2010.
Lynn Murray,
Department Clearance Officer, PRA, United States Department of Justice.

[FR Doc. 2010-29783 Filed 11-24-10; 8:45 am]

BILLING CODE 4410-18-P